DEPARTMENT OF LABOR

Employment and Training Administration

[TA-W-55,250]

Staffing Solutions, Inc., Leased Worker at Aerus, LLC, Bristol, VA; Notice of Termination of Investigation

Pursuant to section 221 of the Trade Act of 1974, as amended, an investigation was initiated on July 14, 2004, in response to a petition filed by a company official on behalf of workers of Staffing Solutions, Inc., leased to Aerus, LLC, Bristol, Virginia.

In order to establish a valid worker group, there must be at least three full-time workers employed at the firm at some point during the period under investigation. Workers of the group subject to this investigation did not meet the threshold of employment. Consequently the investigation has been terminated.

Signed in Washington, DC, this 22nd day of July, 2004.
Linda G. Poole,
Certifying Officer, Division of Trade Adjustment Assistance.

[FR Doc. 04-17601 Filed 8-2-04; 8:45 am]

BILLING CODE 4510-30-P